DEPARTMENT OF ENERGY

Federal Energy Regulatory Commission

[Docket Nos. PR08-15-000; PR08-15-001]

Energy Transfer Fuel, L.P. Notice of Shortened Comment Period

July 7, 2008.

Take notice that on July 3, 2008, Energy Transfer Fuel, L.P. filed a Stipulation and Agreement of Settlement (Settlement) in the above-docketed proceeding. Included in its filing was a request to shorten the period for filing initial and reply comments in response to the Settlement.

We are shortening the date for filing initial comments to and including July 9, 2008. Reply comments should be filed on or before July 11, 2008.

Kimberly D. Bose,
Secretary.

[FR Doc. E8-15877 Filed 7-11-08; 8:45 am]

BILLING CODE 6717-01-P